DEPARTMENT OF COMMERCE

International Trade Administration

[A-357-823]

Raw Honey From Argentina: Amended Final Results of Antidumping Duty Administrative Review; 2021-2023

AGENCY: Enforcement and Compliance, International Trade Administration, Department of Commerce.

SUMMARY: The U.S. Department of Commerce (Commerce) is amending the final results of the administrative review of the antidumping duty (AD) order on raw honey from Argentina to correct certain ministerial errors. Based on the amended final results, we find that the companies under review sold raw honey in the United States at less than normal value during the period of review (POR), November 23, 2021, through May 31, 2023.

DATES: Applicable May 22, 2025.

FOR FURTHER INFORMATION CONTACT: Thomas Martin, AD/CVD Operations, Office IV, Enforcement and Compliance, International Trade Administration, U.S. Department of Commerce, 1401 Constitution Avenue NW, Washington, DC 20230; telephone: (202) 482-3936.

SUPPLEMENTARY INFORMATION:

Background

On April 14, 2025, Commerce published in the Federal Register the final results of the 2021-2023 administrative review of the AD order on raw honey from Argentina.¹ On April 15, 2025, we received two timely ministerial error allegations from Asociación de Cooperativas Argentinas C.L. (ACA), both with respect to the calculation of constructed value (CV) profit.² On April 21, 2025, the American Honey Producers Association and the Sioux Honey Association (collectively, the domestic interested parties), submitted comments in response to the ministerial error allegations filed by ACA.³ Commerce is amending the Final Results to correct these ministerial errors.

¹ See Raw Honey from Argentina: Final Results of Antidumping Duty Administrative Review; 2021-2023, 90 FR 15549 (April 14, 2025) (Final Results), and accompanying Issues and Decision Memorandum (IDM).

² See ACA's Letter, “Ministerial Error Comments,” dated April 15, 2025 (ACA's Ministerial Error Allegation).

³ See Domestic Interested Parties' Letter, “Petitioners' Response to ACA's Ministerial Error Allegations,” dated April 21, 2025 (DIPs' Response to ACA's Ministerial Error Allegation).

Legal Framework

Section 751(h) of the Tariff Act of 1930, as amended (the Act), defines a “ministerial error” as including “errors in addition, subtraction, or other arithmetic function, clerical errors resulting from inaccurate copying, duplication, or the like, and any other unintentional error which the administering authority considers ministerial.” ⁴ With respect to final results of administrative reviews, 19 CFR 351.224(e) provides that Commerce “will analyze any comments received and, if appropriate, correct any . . . ministerial error by amending the final results of review . . .”

⁴ See 19 CFR 351.224(f).

Ministerial Errors

Commerce reviewed the record, and we agree that the errors alleged by ACA constitute ministerial errors within the meaning of section 751(h) of the Act and 19 CFR 351.224(f).⁵ Specifically, we find that we made inadvertent errors related to the calculation of CV profit.⁶ Pursuant to 19 CFR 351.224(e), Commerce is amending the Final Results to reflect the correction of the ministerial errors, as described in the Ministerial Error Memorandum.⁷ Based on the corrections, ACA's final weighted-average dumping margin changed from 15.06 percent to 6.19 percent. As a result, we are also revising the weighted-average dumping margin assigned to the non-individually examined companies, utilizing the same methodology used in the Final Results,⁸ from 4.70 percent to 2.61 percent. The amended weighted-average dumping margins are listed in the “Amended Final Results of Review” section below.

⁵ See Memorandum, “Analysis of Ministerial Error Allegations,” dated concurrently with this Federal Register notice, and hereby adopted by, this notice (Ministerial Error Memorandum).

⁶ See ACA's Ministerial Error Allegation at 2-6.

⁷ See Ministerial Error Memorandum.

⁸ See Final Results, 90 FR at 15549.

For a complete discussion of the ministerial error allegation, as well as Commerce's analysis, see the Ministerial Error Memorandum. The Ministerial Error Memorandum is on file electronically via ACCESS. ACCESS is available to registered users at https://access.trade.gov.

Amended Final Results of Review

As a result of correcting these ministerial errors described above, Commerce determines that the following estimated weighted-average dumping margins exist for the period November 23, 2021, through May 31, 2023:

⁹ See Appendix for a list of these companies.

Producer or exporter | Weighted- average dumping margin (percent)
Asociación de Cooperativas Argentinas C.L | 6.19
Review Specific Rate for Non-Examined Companies ⁹ | 2.61

Disclosure

Commerce intends to disclose under administrative protective order the calculations performed in connection with these amended final results of review to interested parties within five days after public announcement of the amended final results or, if there is no public announcement, within five days of the date of publication of the notice of amended final results in the Federal Register, in accordance with 19 CFR 351.224(b).

Assessment Rates

Pursuant to section 751(a)(2)(C) of the Act and 19 CFR 351.212(b)(1), Commerce will determine, and U.S. Customs and Border Protection (CBP) shall assess, antidumping duties on all appropriate entries of subject merchandise in accordance with the amended final results of this review. The amended final results of this review shall be the basis for the assessment of antidumping duties on entries of merchandise covered by the amended final results of this review and for future deposits of estimated duties, where applicable.¹⁰

¹⁰ See section 751(a)(2)(C) of the Act.

For ACA, Commerce intends to calculate importer-specific AD assessment rates on the basis of the ratio of the total amount of dumping calculated for each importer's examined sales to the total entered value of those sales. Pursuant to 19 CFR 351.212(b)(1), ACA has not reported actual entered value for all of its U.S. sales; in such instances, we calculated importer-specific per-unit duty assessment rates by aggregating the importer's amount of dumping calculated for the examined sales and dividing this amount by the total quantity of those sales. To consider whether the per-unit importer-specific assessment rate is de minimis, we estimated the entered value for each U.S. sale and calculated an estimated ad valorem importer-specific assessment rate as the importer's aggregated amount of dumping divided by the estimated entry value of those sales. Where either a respondent's weighted-average dumping margin is zero or de minimis, or an importer-specific (estimated) ad valorem assessment rate is zero or de minimis, we intend to instruct CBP to liquidate appropriate entries without regard to antidumping duties.¹¹

¹¹ See 19 CFR 351.106(c)(2); see also Antidumping Proceeding: Calculation of the Weighted-Average Dumping Margin and Assessment Rate in Certain Antidumping Proceedings; Final Modification, 77 FR 8101, 8103 (February 14, 2012).

For entries of subject merchandise during the POR produced by an individually examined respondent for which it did not know its merchandise was destined for the United States, we intend to instruct CBP to liquidate such entries at the all-others rate (i.e., 16.92 percent) ¹² if there is no rate for the intermediate company(ies) involved in the transaction.¹³

¹² See Raw Honey from Argentina: Final Determination of Sales at Less Than Fair Value and Final Affirmative Determination of Critical Circumstances, 87 FR 22179, 22181 (April 14, 2022) (Final Determination).

¹³ See Antidumping and Countervailing Duty Proceedings: Assessment of Antidumping Duties, 68 FR 23954 (May 6, 2003).

For the companies that were not selected for individual examination, we will instruct CBP to assess antidumping duties at the assessment rate equal to the weighted-average dumping margin for the non-examined companies in the amended final results of review.

Commerce intends to issue assessment instructions to CBP no earlier than 35 days after the date of publication of the amended final results of this review in the Federal Register. If a timely summons is filed at the U.S. Court of International Trade, the assessment instructions will direct CBP not to liquidate relevant entries until the time for parties to file a request for statutory injunction has expired (i.e., within 90 days of publication).

Cash Deposit Requirements

Upon publication of this notice in the Federal Register, the following cash deposit requirements will be effective for all shipments of the subject merchandise entered, or withdrawn from warehouse, for consumption on or after the publication date of the final results of this administrative review, as provided by section 751(a)(2)(C) of the Act: (1) the cash deposit rate for subject merchandise exported by one of the companies listed above will be equal to the weighted-average dumping margin established in the amended final results of this review, except if the rate is de minimis (i.e., less than 0.50 percent), in which case the cash deposit rate will be zero; (2) for an exporter of subject merchandise previously reviewed or investigated but not covered by this review, the cash deposit rate will continue to be equal to the company-specific rate published for the most recently-completed segment of this proceeding; (3) if the exporter is not a firm covered in this review, a prior review, or the less-than-fair-value (LTFV) investigation, but the producer is, the cash deposit rate will continue to be equal to the rate established for the most recently-completed segment of this proceeding for the producer of the merchandise; and (4) the cash deposit rate for all other producers and exporters will continue to be 16.92 percent, the all-others rate established in the LTFV Final Determination.¹⁴

¹⁴ See Final Determination, 87 FR at 22181.

These cash deposit requirements, when imposed, shall remain in effect until further notice.

Notification to Importers

This notice also serves as a final reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing these amended final results of administrative review in accordance with sections 751(a)(1) and 777(i)(1) of the Act and 19 351.221(b)(4).

Dated: May 16, 2025.
Scot Fullerton,
Acting Deputy Assistant Secretary for Antidumping and Countervailing Duty Operations.

Appendix

Non-Examined Companies Receiving a Review-Specific Weighted-Average Dumping Margin

1. Azul Agronegocios S.A.

2. Compaia Apicola Argentina S.A.

3. Compania Inversora Platense S.A.

4. Cooperativa Apicola La Colmena Ltda.

5. D'Ambros Maria de Los Angeles y D'Ambros Maria Daniela SRL.

6. Gasrroni S.R.L.

7. Geomiel S.A.

8. Gruas San Blas S.A.

9. Honey & Grains Srl.

10. Industrial Haedo S.A.

11. Industrias Haedo S.A.

12. Naiman S.A.

13. Newsan S.A.

14. Patagonik Food S.A.,

15. Promiel Srl (Vicentin S.A.I.C.).

16. Terremare Foods S.A.S.

17. Villamora S.A

[FR Doc. 2025-09160 Filed 5-21-25; 8:45 am]

BILLING CODE 3510-DS-P